DEPARTMENT OF ENERGY

Federal Energy Regulatory Commission

Combined Notice of Filings #1

Take notice that the Commission received the following electric rate filings:

Docket Numbers: ER12-30-002; ER11-41-002; ER11-46-005; ER11-47-002; ER10-2975-005; ER10-2981-002.

Applicants: BlueStar Energy Services Inc., Appalachian Power Company, AEP Energy Partners, Inc., CSW Energy Services, Inc., AEP Texas Central Company, AEP Retail Energy Partners.

Description: Supplement to June 29, 2012 Triennial update for market based rate authority for AEP West by BlueStar Energy Services Inc., et al.

Filed Date: 3/14/13.

Accession Number: 20130314-5180.

Comments Due: 5 p.m. ET 4/4/13.

Docket Numbers: ER12-953-002.

Applicants: ISO New England Inc.

Description: FCM Compliance Filing to be effective 5/13/2013.

Filed Date: 3/14/13.

Accession Number: 20130314-5102.

Comments Due: 5 p.m. ET 4/4/13.

Docket Numbers: ER13-962-001.

Applicants: Wisconsin Power and Light Company.

Description: Wisconsin Power and Light Company submits WPL's Changes in Depreciation Rates for Wholesale Production Service Supplement to be effective 1/1/2013.

Filed Date: 3/14/13.

Accession Number: 20130314-5156.

Comments Due: 5 p.m. ET 4/4/13.

Docket Numbers: ER13-1080-000.

Applicants: Arizona Public Service Company.

Description: Arizona Public Service Stipulation and Agreement re: Wholesale Transmission Rate to be effective 4/12/2013.

Filed Date: 3/13/13.

Accession Number: 20130313-5147.

Comments Due: 5 p.m. ET 4/3/13.

Docket Numbers: ER13-1080-001.

Applicants: Arizona Public Service Company.

Description: Arizona Public Service Company submits APS-Amendment to Stipulation and Agreement re: Wholesale Transmission Rate to be effective 4/12/2013.

Filed Date: 3/14/13.

Accession Number: 20130314-5163.

Comments Due: 5 p.m. ET 4/3/13.

Docket Numbers: ER13-1095-000.

Applicants: Midwest Independent Transmission System Operator, Inc.

Description: Midwest Independent Transmission System Operator, Inc. submits tariff filing per 35.13(a)(2)(iii: 2013-03-14 Same-Bus FTR Filing to be effective 3/15/2013.

Filed Date: 3/14/13.

Accession Number: 20130314-5123.

Comments Due: 5 p.m. ET 4/4/13.

Docket Numbers: ER13-1096-000.

Applicants: BE Louisiana LLC.

Description: BE Louisiana LLC submits tariff filing per 35.13(a)(2)(iii: Revisions to market-based rate tariff to be effective 3/15/2013.

Filed Date: 3/14/13.

Accession Number: 20130314-5149.

Comments Due: 5 p.m. ET 4/4/13.

Docket Numbers: ER13-1097-000.

Applicants: Central Power & Lime LLC.

Description: Central Power & Lime LLC submits tariff filing per 35.13(a)(2)(iii: Revisions to market-based rate tariff to be effective 3/15/2013.

Filed Date: 3/14/13.

Accession Number: 20130314-5150.

Comments Due: 5 p.m. ET 4/4/13.

Docket Numbers: ER13-1098-000.

Applicants: BE Rayle LLC.

Description: BE Rayle LLC submits tariff filing per 35.13(a)(2)(iii: Revisions to market-based rate tariff to be effective 3/15/2013.

Filed Date: 3/14/13.

Accession Number: 20130314-5151.

Comments Due: 5 p.m. ET 4/4/13.

Docket Numbers: ER13-1099-000.

Applicants: Triton Power Michigan LLC.

Description: Triton Power Michigan LLC submits tariff filing per 35.13(a)(2)(iii: Revisions to market-based rate tariff to be effective 3/15/2013.

Filed Date: 3/14/13.

Accession Number: 20130314-5158.

Comments Due: 5 p.m. ET 4/4/13.

Docket Numbers: ER13-1100-000.

Applicants: Energy Technology Savings LLC.

Description: Energy Technology Savings LLC submits tariff filing per 35.12: MBR Application to be effective 5/13/2013.

Filed Date: 3/14/13.

Accession Number: 20130314-5161.

Comments Due: 5 p.m. ET 4/4/13.

Take notice that the Commission received the following qualifying facility filings:

Docket Numbers: QF13-355-000.

Applicants: IPS Power Engineering.

Description: Form 556—Notice of self-certification of qualifying cogeneration facility status of IPS Power Engineering [Mt Pleasant].

Filed Date: 3/14/13.

Accession Number: 20130314-5077.

Comments Due: None Applicable.

Docket Numbers: QF13-356-000.

Applicants: IPS Power Engineering.

Description: Form 556—Notice of self-certification of qualifying cogeneration facility status of IPS Power Engineering [Live Oaks].

Filed Date: 3/14/13.

Accession Number: 20130314-5079.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2013.
Nathaniel J. Davis, Sr.,
Deputy Secretary.

[FR Doc. 2013-06599 Filed 3-21-13; 8:45 am]

BILLING CODE 6717-01-P